FEDERAL DEPOSIT INSURANCE CORPORATION

[OMB No. 3064-0152; -0190]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0152; and—0190).

DATES: Comments must be submitted on or before April 11, 2022.

ADDRESSES: Interested parties are invited to submit written comments to the FDIC by any of the following methods:

• Agency Website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: ID Theft Red Flags.

OMB Number: 3064-0152.

Form Number: None.

Affected Public: Insured state nonmember banks.

Burden Estimate:

Summary of Estimated Annual Burden
[OMB No. 3064-0152]
Information collection description | Type of burden (obligation to respond) | Frequency of response | Number of respondents | Number of responses per respondent | Hours per response | Annual burden (hours)
FACT Act Section 114: Identity Theft Prevention
Program Establishment 12 CFR 334.90(d); 12 CFR 334.91(c) | Recordkeeping (Mandatory) | Annual | 8 | 1 | 40 | 320
Program Operations 12 CFR 334.90(c),(e); 12 CFR 334.91(c) | Recordkeeping (Mandatory) | Annual | 3,171 | 1 | 16 | 50,832
Section 114 Hours Subtotal |  |  |  |  |  | 51,152
FACT Act Section 315: Address Discrepancy Program
Program Establishment 12 CFR 334.82(c),(d) | Recordkeeping (Mandatory) | Annual | 8 | 1 | 40 | 320
Program Operations 12 CFR 334.82(c),(d) | Recordkeeping (Mandatory) | Annual | 3,111 | 1 | 4 | 12,444
Specific Incident Responses 12 CFR 334.82(d)(1-3) | Disclosures (Mandatory) | On occasion | 3,111 | 17.1 | 0.1667 | 8,868
Section 315 Hours Subtotal |  |  |  |  |  | 21,632
Total Annual Burden (Hours) |  |  |  |  |  | 72,784
Source: FDIC.

General Description of Collection: The regulation containing this information collection requirement is 12 CFR part 334, which implements sections 114 and 315 of the Fair and Accurate Credit Transactions Act of 2003 (FACT Act), Public Law 108-159 (2003). FACT Act Section 114: Section 114 requires the Board of Governors of the Federal Reserve System, the Office of the Comptroller of the Currency and the FDIC (the Agencies) to jointly propose guidelines for financial institutions and creditors identifying patterns, practices, and specific forms of activity that indicate the possible existence of identity theft. In addition, each financial institution and creditor is required to establish reasonable policies and procedures to address the risk of identity theft that incorporate the guidelines. Credit card and debit card issuers must develop policies and procedures to assess the validity of a request for a change of address under certain circumstances. The information collections pursuant to section 114 require each financial institution and creditor to create an Identity Theft Prevention Program and report to the board of directors, a committee thereof, or senior management at least annually on compliance with the proposed regulations. In addition, staff must be trained to carry out the program. Each credit and debit card issuer is required to establish policies and procedures to assess the validity of a change of address request. The card issuer must notify the cardholder or use another means to assess the validity of the change of address. FACT Act Section 315: Section 315 requires the Agencies to issue regulations providing guidance regarding reasonable policies and procedures that a user of consumer reports must employ when such a user receives a notice of address discrepancy from a consumer reporting agencies. Part 334 provides such guidance. Each user of consumer reports must develop reasonable policies and procedures that it will follow when it receives a notice of address discrepancy from a consumer reporting agency. A user of consumer reports must furnish an address that the user has reasonably confirmed to be accurate to the consumer reporting agency from which it receives a notice of address discrepancy.

There is no change in the method or substance of the information collection. The total estimated annual burden hours have increased due to the inclusion of estimated program establishment costs for de novo institutions and the introduction of the costs of responses to specific address discrepancy incidents for newly established consumer accounts.

2. Title: Interagency Appraisal Complaint Form.

OMB Number: 3064-0190.

Form Numbers: None.

Affected Public: Individuals, financial institutions and other private sector entities.

Burden Estimate:

Summary of Estimated Annual Burden
[OMB No. 3064-0190]
Information collection description | Type of burden (obligation to respond) | Frequency of response | Number of respondents | Number of responses per respondent | Hours per response | Annual burden (hours)
Interagency Appraisal Complaint Form | Reporting (Voluntary) | On Occasion | 116 | 1 | 0.5 | 58
Source: FDIC.

General Description of Collection: As provided in section 1473(p) of the Dodd-Frank Wall Street Reform and Consumer Protection Act (Dodd-Frank Act), on January 12, 2011, the Appraisal Subcommittee (“ASC”), of the Federal Financial Institutions Examination Council (FFIEC) determined that no national hotline existed to receive complaints of noncompliance with appraisal standards. A notice of that determination was published in the Federal Register on January 28, 2011 (76 FR 5161). As required by the Dodd-Frank Act, the ASC established a hotline to refer complaints to appropriate state and Federal regulators. For those instances where the ASC determines the FDIC, OCC, FRB, or NCUA is the appropriate regulator, the agencies developed the Interagency Appraisal Complaint Form as a means to efficiently collect necessary information. The Interagency Appraisal Complaint Form is designed to collect information necessary for one or more agencies to take further action on a complaint from an appraiser, other individual, financial institution, or other entities. The FDIC will use the information to take further action on the complaint to the extent it relates to an issue within its jurisdiction.

There is no change in the method or substance of the collection. The overall increase in burden hours (from 20 hours to 58 hours) is the result of a change in the agency's estimate of the number of annual responses based on a review of the actual number of complaints received over the last five years. In particular, the estimated number of respondents has increased from 40 to 116 while the estimated time per response and the frequency of response have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on February 4, 2022.
Federal Deposit Insurance Corporation.
James P. Sheesley,
Assistant Executive Secretary.

[FR Doc. 2022-02692 Filed 2-8-22; 8:45 am]

BILLING CODE 6714-01-P